DEPARTMENT OF ENERGY

Federal Energy Regulatory Commission

Combined Notice of Filings #1

Take notice that the Commission received the following exempt wholesale generator filings:

Docket Numbers: EG23-262-000.

Applicants: Steel Solar, LLC.

Description: Steel Solar, LLC submits Notice of Self-Certification of Exempt Wholesale Generator Status.

Filed Date: 8/22/23.

Accession Number: 20230822-5167.

Comment Date: 5 p.m. ET 9/12/23.

Take notice that the Commission received the following electric rate filings:

Docket Numbers: ER23-2146-001.

Applicants: SunZia Transmission, LLC.

Description: Tariff Amendment: Deficiency Letter Response of SunZia Transmission, LLC (ER23-2146-) to be effective 8/15/2023.

Filed Date: 8/22/23.

Accession Number: 20230822-5141.

Comment Date: 5 p.m. ET 9/5/23.

Docket Numbers: ER23-2344-001.

Applicants: MidAmerican Energy Company.

Description: Tariff Amendment: Amendment to Concurrence Filed in ER23-2344 to be effective 9/4/2023.

Filed Date: 8/22/23.

Accession Number: 20230822-5143.

Comment Date: 5 p.m. ET 9/12/23.

Docket Numbers: ER23-2429-001.

Applicants: Stonepeak Kestrel Energy Marketing LLC.

Description: Tariff Amendment: IROL-CIP Rate Schedule Amendment to be effective 9/29/2023.

Filed Date: 8/22/23.

Accession Number: 20230822-5145.

Comment Date: 5 p.m. ET 9/12/23.

Docket Numbers: ER23-2441-000.

Applicants: Chevelon Butte RE II LLC.

Description: Supplement to July 20, 2023, Chevelon Butte RE II LLC tariff filing.

Filed Date: 8/22/23.

Accession Number: 20230822-5175.

Comment Date: 5 p.m. ET 9/1/23.

Docket Numbers: ER23-2447-001.

Applicants: Desert Peak Energy Center, LLC.

Description: Tariff Amendment: Desert Peak Energy Center, LLC Amendment to the Shared Facilities Agreement to be effective 7/21/2023.

Filed Date: 8/23/23.

Accession Number: 20230823-5100.

Comment Date: 5 p.m. ET 9/13/23.

Docket Numbers: ER23-2451-000.

Applicants: Great Cove Solar II LLC.

Description: Supplement to July 20, 2023, Great Cove Solar II LLC tariff filing.

Filed Date: 8/22/23.

Accession Number: 20230822-5173.

Comment Date: 5 p.m. ET 9/1/23.

Docket Numbers: ER23-2684-000.

Applicants: Steel Solar, LLC.

Description: Baseline eTariff Filing: Application for Market-Based Rate Authority to be effective 10/22/2023.

Filed Date: 8/22/23.

Accession Number: 20230822-5138.

Comment Date: 5 p.m. ET 9/12/23.

Docket Numbers: ER23-2685-000.

Applicants: Midcontinent Independent System Operator, Inc.

Description: § 205(d) Rate Filing: 2023-08-22-SA 3371 Termination of Orion Renewable-SIGE GIA (J856) to be effective 6/7/2023.

Filed Date: 8/22/23.

Accession Number: 20230822-5147.

Comment Date: 5 p.m. ET 9/12/23.

Docket Numbers: ER23-2687-000.

Applicants: MidAmerican Energy Company.

Description: Notice of Termination of Assignment Agreements of MidAmerican Energy Company.

Filed Date: 8/22/23.

Accession Number: 20230822-5180.

Comment Date: 5 p.m. ET 9/12/23.

Docket Numbers: ER23-2688-000.

Applicants: NRG Business Marketing LLC.

Description: Compliance filing: Notice of Succession and Request for Waiver to be effective 8/23/2023.

Filed Date: 8/23/23.

Accession Number: 20230823-5045.

Comment Date: 5 p.m. ET 9/13/23.

Docket Numbers: ER23-2689-000.

Applicants: Alabama Power Company, Georgia Power Company, Mississippi Power Company.

Description: § 205(d) Rate Filing: Alabama Power Company submits tariff filing per 35.13(a)(2)(iii: CED Timberland Solar 2 LGIA Amendment Filing to be effective 8/11/2023.

Filed Date: 8/23/23.

Accession Number: 20230823-5051.

Comment Date: 5 p.m. ET 9/13/23.

Docket Numbers: ER23-2690-000.

Applicants: MidAmerican Energy Company.

Description: § 205(d) Rate Filing: Concurrence with IPL (RLBAA) to be effective 9/6/2023.

Filed Date: 8/23/23.

Accession Number: 20230823-5076.

Comment Date: 5 p.m. ET 9/13/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 23, 2023.
Debbie-Anne A. Reese,
Deputy Secretary.

[FR Doc. 2023-18594 Filed 8-28-23; 8:45 am]

BILLING CODE 6717-01-P